FEDERAL DEPOSIT INSURANCE CORPORATION

Agency Information Collection Activities: Proposed Information Collection; Comment Request

AGENCY: Federal Deposit Insurance Corporation (FDIC).

ACTION: Notice and request for comment.

SUMMARY: The FDIC, as part of its continuing effort to reduce paperwork and respondent burden, invites the general public and other Federal agencies to comment on a proposed new one-time collection of information, as required by the Paperwork Reduction Act of 1995 (44 U.S.C. chapter 35). The collection would provide information on the features and effects of overdraft protection programs in state nonmember financial institutions.

DATES: Comments must be submitted on or before October 16, 2006.

ADDRESSES: Interested parties are invited to submit written comments by mail to Steve Hanft, Legal Division, Federal Deposit Insurance Corporation, 550 17th Street, NW., Washington, DC 20429; by FAX to Mr. Hanft at (202) 898-3838; or by e-mail to comments@fdic.gov. All comments should refer to “Study of Overdraft Protection Programs.” Copies of comments may also be submitted to the OMB desk officer for the FDIC, Office of Information and Regulatory Affairs, Office of Management and Budget, New Executive Office Building, Washington, DC 20503.

FOR FURTHER INFORMATION CONTACT: Steve Hanft, (202) 898-3907, or at the address above.

SUPPLEMENTARY INFORMATION: Proposal to undertake the following new collection of information:

Title: Study of Overdraft Protection Programs.

OMB Number: New collection.

Frequency of Response: One-time.

Affected Public: State nonmember financial institutions and data service providers.

Estimated Number of Respondents: 500.

Estimated Time per Response: Survey questions: approximate average of 3 hours per respondent. Micro-data collection: approximate average of 40 hours per respondent.

Estimated Total Annual Burden:

Survey questions: 500 respondents times 3 hours per = 1,500 hours.

Micro-data collection: 100 respondents (financial institutions and/or service providers) times 40 hours per = 4,000 hours.

Total burden = 1,500 + 4,000 = 5,500 hours.

General Description of Collection: The FDIC is planning a study of the overdraft protection products offered by financial institutions and the usage patterns among depositors in those institutions. The study requires collection of data from financial institutions that are not currently included in the Call Reports or other standard periodic regulatory reports. These data will be collected in two parts: a survey in which a sample of 500 state-chartered nonmember financial institutions will, we anticipate, be asked up to 85 questions about each type of overdraft policy that they implement, and an additional micro-data collection in which more detailed information will be collected from 100 of these institutions. To minimize burden on respondents, FDIC will use automated data collection techniques wherever possible. The study conforms to privacy rules and will not request any information that could be used to identify individual bank customers, such as name, address, or account number. All data from, and identities of, the financial institutions will remain confidential. It is the intent of the FDIC to publish only general findings of the study.

Request for Comment

Comments are invited on: (a) Whether the collection of information is necessary for the proper performance of the FDIC's functions, including whether the information has practical utility; (b) the accuracy of the estimates of the burden of the information collection; (c) ways to enhance the quality, utility, and clarity of the information to be collected; and (d) ways to minimize the burden of the information collection on respondents, including through the use of automated collection techniques or other forms of information technology.

The FDIC will consider all comments to determine the extent to which the proposed information collection should be modified prior to submission to OMB for review and approval. After the comment period closes, comments will be summarized or included in the FDIC's request to OMB for approval of the collection. All comments will become a matter of public record.

Dated at Washington, DC, this 10th day of August, 2006.
Federal Deposit Insurance Corporation.
Valerie Best,
Assistant Executive Secretary.

[FR Doc. E6-13435 Filed 8-15-06; 8:45 am]

BILLING CODE 6714-01-P